Title 3—

The President

Proclamation 10427 of July 26, 2022

National Korean War Veterans Armistice Day, 2022

By the President of the United States of America

A Proclamation

In June of 1950, the United States answered the call to defend freedom abroad by joining the Republic of Korea in its fight against the communist regime in North Korea and eventually the People's Republic of China. After 3 years of violent combat across the Korean peninsula, an armistice was signed by representatives of the United States as head of the United Nations Command, the People's Republic of China, and North Korea. For nearly 70 years, the ensuing peace and the abiding relationship between the Korean and American people has been the foundation for the thriving democracy and incredible economic progress of the Republic of Korea. During my recent visit to the Republic of Korea, I paid tribute to those Korean troops who fought and sacrificed shoulder-to-shoulder with Americans, along with our United Nations counterparts, to defend their country. Today, our Nation honors those selfless American service members whose courage and sacrifice helped forge the armistice, the enduring Alliance between our two nations, and a lasting legacy of freedom in the Republic of Korea.

Today, the Republic of Korea is our strong ally, a global center of innovation, and a vibrant democracy. In Seoul, I affirmed with President Yoon that the U.S.-ROK Alliance is stronger than ever, evolving to maintain its role as a linchpin of peace and stability in the region and increasingly expanding to the global stage. At Osan Air Base, I met with some of the brave American troops and their families who are stationed in the Republic of Korea, still serving side-by-side with our South Korean allies and strengthening the bonds between our people.

During the Korean War, nearly 1.8 million Americans answered the call to serve and defend the freedoms and universal values that the people of South Korea enjoy today. They faced enormous challenges—often outnumbered by the enemy, facing extreme heat and cold while fighting in the mountains and valleys and in the rice paddies and rocky terrain of the Korean Peninsula. More than 36,000 of those American service members were killed in action, along with more than 7,000 Korean Augmentation to the United States Army soldiers that fought with the United States Armed Forces—sacrificing everything to defend freedom and democracy on the Peninsula. Thousands were held in brutal captivity. Thousands remain unaccounted for to this day. Many more service members returned home with wounds of war, both visible and invisible. The First Lady and I are committed to fully accounting for all of our Prisoners of War and Missing in Action and fulfilling our sacred obligation to care for our veterans and their families, caregivers, and survivors, making sure they receive the benefits and services they have earned.

Today and every day, we continue to remember our Nation's Korean War Veterans and honor all that they made possible through service to our Nation and our highest ideals.

NOW, THEREFORE, I, JOSEPH R. BIDEN JR., President of the United States of America, by virtue of the authority vested in me by the Constitution and the laws of the United States, do hereby proclaim July 27, 2022, as National Korean War Veterans Armistice Day. On this day, I encourage all Americans to reflect on the strength, sacrifices, and sense of duty of our Korean War Veterans and bestow upon them the high honor they deserve. I call upon all Americans to observe this day with appropriate ceremonies and activities that honor and give thanks to our distinguished Korean War Veterans.

IN WITNESS WHEREOF, I have hereunto set my hand this twenty-sixth day of July, in the year of our Lord two thousand twenty-two, and of the Independence of the United States of America the two hundred and forty-seventh.

[FR Doc. 2022-16446

Filed 7-28-22; 8:45 am]

Billing code 3395-F2-P